Title 3—

The President

Executive Order 14060 of December 15, 2021

Establishing the United States Council on Transnational Organized Crime

By the authority vested in me as President by the Constitution and the laws of the United States of America, I hereby order as follows:

Section 1. Purpose. Transnational organized crime (TOC) poses a direct and escalating threat to public health, public safety, and national security. Transnational criminal organizations engage in a broad range of criminal activities, including drug and weapons trafficking, migrant smuggling, human trafficking, cybercrime, intellectual property theft, money laundering, wildlife and timber trafficking, illegal fishing, and illegal mining.

These networks continue to expand in size and influence in the United States and abroad. Transnational criminal organizations contribute directly to tens of thousands of drug-overdose deaths in the United States each year and adversely affect American communities and economic prosperity. They also threaten United States national security by degrading the security and stability of allied and partner nations, undermining the rule of law, fostering corruption, acting as proxies for hostile state activities, directly or indirectly funding insurgent and terrorist groups, depleting natural resources, harming human health and the environment, contributing to climate change through illegal deforestation and logging, and exploiting and endangering vulnerable populations. In some regions, transnational criminal organizations wield state-like capabilities, disregarding sovereign borders, compromising the integrity of democratic institutions and threatening the legitimacy of fragile governments, and securing their power through intimidation, corruption, and violence. For these reasons, it is in the national interest of the United States to counter TOC. Addressing TOC requires a coordinated Federal framework accompanied by a cohesive whole-of-government effort executed in collaboration with State, local, Tribal, territorial, and civil society partners in the United States and in close coordination with foreign partners, international and regional organizations, and international and local civil society groups abroad.

Sec. 2. Policy. Executive departments and agencies (agencies) shall take actions within their respective authorities, including, as appropriate, through the provision of technical and financial assistance, to enhance efforts to counter TOC. It is the policy of the United States to:

(a) employ authorized intelligence and operational capabilities in an integrated manner to target, disrupt, and degrade transnational criminal organizations that pose the greatest threat to national security;

(b) collaborate with private entities and international, multilateral, and bilateral organizations to combat TOC, while also strengthening cooperation with and advancing efforts to build capacity in partner nations to reduce transnational criminal activity;

(c) improve information sharing between law enforcement entities and the Intelligence Community to enhance strategic analysis of, and efforts to combat, transnational criminal organizations and their activities, while also preserving our ability to speedily bring TOC actors to justice;

(d) expand tools and capabilities to combat illicit finance, which underpins all TOC activities; and

(e) develop and deploy new technologies to identify and disrupt existing and newly emerging TOC threats.

Sec. 3. Establishments. (a) There shall be established a United States Council on Transnational Organized Crime (USCTOC), which shall report to the President through the Assistant to the President for National Security Affairs. The USCTOC shall monitor the production and implementation of coordinated strategic plans for whole-of-government counter-TOC efforts in support of and in alignment with policy priorities established by the President through the National Security Council.

(i) The USCTOC shall replace the Threat Mitigation Working Group, previously directed to lead whole-of-government efforts on TOC under Executive Order 13773 of February 9, 2017 (Enforcing Federal Law With Respect to Transnational Criminal Organizations and Preventing International Trafficking). Accordingly, section 3 of Executive Order 13773 is hereby revoked.

(ii) The USCTOC shall consist of the following members or their designees:

(A) the Secretary of State;

(B) the Secretary of the Treasury;

(C) the Secretary of Defense;

(D) the Attorney General;

(E) the Secretary of Homeland Security; and

(F) the Director of National Intelligence.

(iii) The USCTOC may request other agencies to contribute to the USCTOC's efforts as necessary, including by detail or assignment of personnel consistent with subsection (b)(v) of this section.

(iv) The USCTOC shall meet not later than 60 days from the date of this order and periodically thereafter.

(b) There shall be established a USCTOC Strategic Division (Division), an interagency working group housed at the Department of Justice, comprising personnel from agencies designated in subsection (a)(ii) of this section.

(i) The Division shall produce coordinated strategic plans for whole-of-government counter-TOC efforts in support of and in alignment with policy priorities established by the President through the National Security Council. These strategic plans shall be informed by intelligence assessments, be developed in coordination with agencies, and include recommendations for actions by agencies. The Division shall submit its completed strategic plans to the USCTOC.

(ii) The Division shall be chaired by a senior official from the Department of Justice or the Department of Homeland Security. The Chairperson shall serve a 2 year term. The Attorney General and the Secretary of Homeland Security, or their designees, shall alternate every 2 years selecting the Chairperson.

(iii) The Division shall be established for administrative purposes within the Department of Justice, and the Department of Justice shall, to the extent permitted by law and subject to the availability of appropriations, provide administrative support and funding for the Division.

(iv) Agencies designated in subsection (a)(ii) of this section are hereby directed, consistent with their authorities, budget priorities, and mission constraints, and to the extent permitted by law and consistent with the need to protect intelligence and law enforcement sources, methods, operations, and investigations, to provide to the Division:

(A) details or assignments of personnel, who shall be qualified subject-matter experts and strategic planners, and who shall serve on full-time assignments of not less than 1 year;

(B) relevant information, research, intelligence, and analysis; and

(C) such other resources and assistance as the Division may request for the purpose of carrying out the responsibilities outlined in this section.

(v) To the extent permitted by law, agencies designated in subsection (a)(ii) of this section are encouraged to detail or assign their employees to the Division on a non-reimbursable basis.

(vi) The Division, within 120 days of the date of this order, shall submit to the USCTOC a report describing a process that the USCTOC can implement on an ongoing basis and as necessary to identify and prioritize the most significant TOC threats in alignment with policy priorities established by the President through the National Security Council.

Sec. 4. Report. The Director of National Intelligence, within 120 days of the date of this order and annually thereafter, shall submit a report to the President through the Assistant to the President for National Security Affairs assessing the Intelligence Community's posture with respect to TOC-related collection efforts, including recommendations on resource allocation and prioritization.

Sec. 5. Definitions. For the purposes of this order:

(a) the term “Intelligence Community” has the meaning ascribed to it under 50 U.S.C. 3003(4); and

(b) the term “transnational criminal organizations” refers to groups, networks, and associated individuals who operate transnationally for the purpose of obtaining power, influence, or monetary or commercial gain, wholly or in part by illegal means, while advancing their activities through a pattern of crime, corruption, or violence, and while protecting their illegal activities through a transnational organizational structure and the exploitation of public corruption or transnational logistics, financial, or communication mechanisms.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 15, 2021.

[FR Doc. 2021-27605

Filed 12-17-21; 8:45 am]

Billing code 3395-F2-P